DEPARTMENT OF HOMELAND SECURITY

Federal Emergency Management Agency

[Docket ID FEMA-2022-0001]

Amendments of Emergency and Major Disaster Declarations

AGENCY: Federal Emergency Management Agency, Department of Homeland Security.

ACTION: Notice; emergency and major disaster declarations.

SUMMARY: This notice amends the notices of emergency and major disaster declarations declared from or having an incident period beginning between, January 1, 2020 and December 31, 2021.

FOR FURTHER INFORMATION CONTACT: Dean Webster, Office of Response and Recovery, Federal Emergency Management Agency, 500 C Street, SW, Washington, DC 20472, dean.webster@fema.dhs.gov, (202) 646-2833.

SUPPLEMENTARY INFORMATION: Pursuant to the H.R. 2471, Consolidated Appropriations Act, 2022, notwithstanding sections 403(b), 403(c)(4), 404(a), 406(b), 407(d), 408(g)(2), 428(e)(2)(B), and 503(a) of the Robert T. Stafford Disaster Relief and Emergency Assistance Act (42 U.S.C. 5121 et seq.), for any emergency or major disaster declared by the President under such Act with a declaration occurring or an incident period beginning between January 1, 2020, and December 31, 2021, the Federal share of assistance, including direct Federal assistance, provided under such sections shall be not less than 90 percent of the total eligible cost of such assistance. The following list of declarations are amended as follows:

Federal funds for Public Assistance, including direct Federal assistance, Hazard Mitigation, and Other Needs Assistance under the Individuals and Households Program, if such programs are authorized, shall be not less than 90 percent of total eligible costs.

Emergency Declarations

• Notice; Puerto Rico; Amendment No. 2 to Notice of an Emergency Declaration; Docket ID FEMA-2022-0001; Internal Agency Docket No. FEMA-3426-EM.

• Notice; Michigan; Amendment No. 4 to Notice of an Emergency Declaration; Docket ID FEMA-2022-0001; Internal Agency Docket No. FEMA-3525-EM.

• Notice; Louisiana; Amendment No. 2 to Notice of an Emergency Declaration; Docket ID FEMA-2022-0001; Internal Agency Docket No. FEMA-3527-EM.

• Notice; Hawaii; Amendment No. 2 to Notice of an Emergency Declaration; Docket ID FEMA-2022-0001; Internal Agency Docket No. FEMA-3529-EM.

• Notice; Texas; Amendment No. 2 to Notice of an Emergency Declaration; Docket ID FEMA-2022-0001; Internal Agency Docket No. FEMA-3530-EM.

• Notice; Virgin Islands; Amendment No. 2 to Notice of an Emergency Declaration; Docket ID FEMA-2022-0001; Internal Agency Docket No. FEMA-3531-EM.

• Notice; Puerto Rico; Amendment No. 2 to Notice of an Emergency Declaration; Docket ID FEMA-2022-0001; Internal Agency Docket No. FEMA-3532-EM.

• Notice; Florida; Amendment No. 2 to Notice of an Emergency Declaration; Docket ID FEMA-2022-0001; Internal Agency Docket No. FEMA-3533-EM.

• Notice; North Carolina; Amendment No. 3 to Notice of an Emergency Declaration; Docket ID FEMA-2022-0001; Internal Agency Docket No. FEMA-3534-EM.

• Notice; Connecticut; Amendment No. 1 to Notice of an Emergency Declaration; Docket ID FEMA-2022-0001; Internal Agency Docket No. FEMA-3535-EM.

• Notice; Puerto Rico; Amendment No. 2 to Notice of an Emergency Declaration; Docket ID FEMA-2022-0001; Internal Agency Docket No. FEMA-3537-EM.

• Notice; Louisiana; Amendment No. 4 to Notice of an Emergency Declaration; Docket ID FEMA-2022-0001; Internal Agency Docket No. FEMA-3538-EM.

• Notice; Mississippi; Amendment No. 2 to Notice of an Emergency Declaration; Docket ID FEMA-2022-0001; Internal Agency Docket No. FEMA-3539-EM.

• Notice; Texas; Amendment No. 5 to Notice of an Emergency Declaration; Docket ID FEMA-2022-0001; Internal Agency Docket No. FEMA-3540-EM.

• Notice; Arkansas; Amendment No. 2 to Notice of an Emergency Declaration; Docket ID FEMA-2022-0001; Internal Agency Docket No. FEMA-3541-EM.

• Notice; Oregon; Amendment No. 2 to Notice of an Emergency Declaration; Docket ID FEMA-2022-0001; Internal Agency Docket No. FEMA-3542-EM.

• Notice; Louisiana; Amendment No. 2 to Notice of an Emergency Declaration; Docket ID FEMA-2022-0001; Internal Agency Docket No. FEMA-3543-EM.

• Notice; Mississippi; Amendment No. 2 to Notice of an Emergency Declaration; Docket ID FEMA-2022-0001; Internal Agency Docket No. FEMA-3544-EM.

• Notice; Alabama; Amendment No. 2 to Notice of an Emergency Declaration; Docket ID FEMA-2022-0001; Internal Agency Docket No. FEMA-3545-EM.

• Notice; Florida; Amendment No. 3 to Notice of an Emergency Declaration; Docket ID FEMA-2022-0001; Internal Agency Docket No. FEMA-3546-EM.

• Notice; Louisiana; Amendment No. 3 to Notice of an Emergency Declaration; Docket ID FEMA-2022-0001; Internal Agency Docket No. FEMA-3547-EM.

• Notice; Mississippi; Amendment No. 2 to Notice of an Emergency Declaration; Docket ID FEMA-2022-0001; Internal Agency Docket No. FEMA-3548-EM.

• Notice; Louisiana; Amendment No. 2 to Notice of an Emergency Declaration; Docket ID FEMA-2022-0001; Internal Agency Docket No. FEMA-3549-EM.

• Notice; Mississippi; Amendment No. 2 to Notice of an Emergency Declaration; Docket ID FEMA-2022-0001; Internal Agency Docket No. FEMA-3550-EM.

• Notice; Florida; Amendment No. 2 to Notice of an Emergency Declaration; Docket ID FEMA-2022-0001; Internal Agency Docket No. FEMA-3551-EM.

• Notice; Tennessee; Amendment No. 1 to Notice of an Emergency Declaration; Docket ID FEMA-2022-0001; Internal Agency Docket No. FEMA-3552-EM.

• Notice; District of Columbia; Amendment No. 3 to Notice of an Emergency Declaration; Docket ID FEMA-2022-0001; Internal Agency Docket No. FEMA-3553-EM.

• Notice; Texas; Amendment No. 2 to Notice of an Emergency Declaration; Docket ID FEMA-2022-0001; Internal Agency Docket No. FEMA-3554-EM.

• Notice; Oklahoma; Amendment No. 2 to Notice of an Emergency Declaration; Docket ID FEMA-2022-0001; Internal Agency Docket No. FEMA-3555-EM.

• Notice; Louisiana; Amendment No. 2 to Notice of an Emergency Declaration; Docket ID FEMA-2022-0001; Internal Agency Docket No. FEMA-3556-EM.

• Notice; Florida; Amendment No. 3 to Notice of an Emergency Declaration; Docket ID FEMA-2022-0001; Internal Agency Docket No. FEMA-3560-EM.

• Notice; Florida; Amendment No. 4 to Notice of an Emergency Declaration; Docket ID FEMA-2022-0001; Internal Agency Docket No. FEMA-3561-EM.

• Notice; Florida; Amendment No. 2 to Notice of an Emergency Declaration; Docket ID FEMA-2022-0001; Internal Agency Docket No. FEMA-3562-EM.

• Notice; Rhode Island; Amendment No. 3 to Notice of an Emergency Declaration; Docket ID FEMA-2022-0001; Internal Agency Docket No. FEMA-3563-EM.

• Notice; Connecticut; Amendment No. 2 to Notice of an Emergency Declaration; Docket ID FEMA-2022-0001; Internal Agency Docket No. FEMA-3564-EM.

• Notice; New York; Amendment No. 3 to Notice of an Emergency Declaration; Docket ID FEMA-2022-0001; Internal Agency Docket No. FEMA-3565-EM.

• Notice; Mashpee Wampanoag Tribe; Amendment No. 1 to Notice of an Emergency Declaration; Docket ID FEMA-2022-0001; Internal Agency Docket No. FEMA-3566-EM.

• Notice; Vermont; Amendment No. 1 to Notice of an Emergency Declaration; Docket ID FEMA-2022-0001; Internal Agency Docket No. FEMA-3567-EM.

• Notice; Louisiana; Amendment No. 2 to Notice of an Emergency Declaration; Docket ID FEMA-2022-0001; Internal Agency Docket No. FEMA-3568-EM.

• Notice; Mississippi; Amendment No. 5 to Notice of an Emergency Declaration; Docket ID FEMA-2022-0001; Internal Agency Docket No. FEMA-3569-EM.

• Notice; California; Amendment No. 2 to Notice of an Emergency Declaration; Docket ID FEMA-2022-0001; Internal Agency Docket No. FEMA-3571-EM.

• Notice; New York; Amendment No. 2 to Notice of an Emergency Declaration; Docket ID FEMA-2022-0001; Internal Agency Docket No. FEMA-3572-EM.

• Notice; New Jersey; Amendment No. 2 to Notice of an Emergency Declaration; Docket ID FEMA-2022-0001; Internal Agency Docket No. FEMA-3573-EM.

• Notice; Louisiana; Amendment No. 2 to Notice of an Emergency Declaration; Docket ID FEMA-2022-0001; Internal Agency Docket No. FEMA-3574-EM.

• Notice; Kentucky; Amendment No. 3 to Notice of an Emergency Declaration; Docket ID FEMA-2022-0001; Internal Agency Docket No. FEMA-3575-EM.

• Notice; Tennessee; Amendment No. 1 to Notice of an Emergency Declaration; Docket ID FEMA-2022-0001; Internal Agency Docket No. FEMA-3576-EM.

• Notice; Illinois; Amendment No. 2 to Notice of an Emergency Declaration; Docket ID FEMA-2022-0001; Internal Agency Docket No. FEMA-3577-EM.

Major Disaster Declarations

• Notice; Puerto Rico; Amendment No. 11 to Notice of a Major Disaster Declaration; Docket ID FEMA-2022-0001; Internal Agency Docket No. FEMA-4473-DR.

• Notice; Vermont; Amendment No. 1 to Notice of a Major Disaster Declaration; Docket ID FEMA-2022-0001; Internal Agency Docket No. FEMA-4474-DR.

• Notice; North Dakota; Amendment No. 2 to Notice of a Major Disaster Declaration; Docket ID FEMA-2022-0001; Internal Agency Docket No. FEMA-4475-DR.

• Notice; Tennessee; Amendment No. 2 to Notice of a Major Disaster Declaration; Docket ID FEMA-2022-0001; Internal Agency Docket No. FEMA-4476-DR.

• Notice; Wisconsin; Amendment No. 1 to Notice of a Major Disaster Declaration; Docket ID FEMA-2022-0001; Internal Agency Docket No. FEMA-4477-DR.

• Notice; Mississippi; Amendment No. 4 to Notice of a Major Disaster Declaration; Docket ID FEMA-2022-0001; Internal Agency Docket No. FEMA-4478-DR.

• Notice; South Carolina; Amendment No. 2 to Notice of a Major Disaster Declaration; Docket ID FEMA-2022-0001; Internal Agency Docket No. FEMA-4479-DR.

• Notice; New York; Amendment No. 11 to Notice of a Major Disaster Declaration; Docket ID FEMA-2022-0001; Internal Agency Docket No. FEMA-4480-DR.

• Notice; Washington; Amendment No. 8 to Notice of a Major Disaster Declaration; Docket ID FEMA-2022-0001; Internal Agency Docket No. FEMA-4481-DR.

• Notice; California; Amendment No. 8 to Notice of a Major Disaster Declaration; Docket ID FEMA-2022-0001; Internal Agency Docket No. FEMA-4482-DR.

• Notice; Iowa; Amendment No. 8 to Notice of a Major Disaster Declaration; Docket ID FEMA-2022-0001; Internal Agency Docket No. FEMA-4483-DR.

• Notice; Louisiana; Amendment No. 6 to Notice of a Major Disaster Declaration; Docket ID FEMA-2022-0001; Internal Agency Docket No. FEMA-4484-DR.

• Notice; Texas; Amendment No. 6 to Notice of a Major Disaster Declaration; Docket ID FEMA-2022-0001; Internal Agency Docket No. FEMA-4485-DR.

• Notice; Florida; Amendment No. 6 to Notice of a Major Disaster Declaration; Docket ID FEMA-2022-0001; Internal Agency Docket No. FEMA-4486-DR.

• Notice; North Carolina; Amendment No. 7 to Notice of a Major Disaster Declaration; Docket ID FEMA-2022-0001; Internal Agency Docket No. FEMA-4487-DR.

• Notice; New Jersey; Amendment No. 11 to Notice of a Major Disaster Declaration; Docket ID FEMA-2022-0001; Internal Agency Docket No. FEMA-4488-DR.

• Notice; Illinois; Amendment No. 9 to Notice of a Major Disaster Declaration; Docket ID FEMA-2022-0001; Internal Agency Docket No. FEMA-4489-DR.

• Notice; Missouri; Amendment No. 8 to Notice of a Major Disaster Declaration; Docket ID FEMA-2022-0001; Internal Agency Docket No. FEMA-4490-DR.

• Notice; Maryland; Amendment No. 9 to Notice of a Major Disaster Declaration; Docket ID FEMA-2022-0001; Internal Agency Docket No. FEMA-4491-DR.

• Notice; South Carolina; Amendment No. 7 to Notice of a Major Disaster Declaration; Docket ID FEMA-2022-0001; Internal Agency Docket No. FEMA-4492-DR.

• Notice; Puerto Rico; Amendment No. 12 to Notice of a Major Disaster Declaration; Docket ID FEMA-2022-0001; Internal Agency Docket No. FEMA-4493-DR.

• Notice; Michigan; Amendment No. 8 to Notice of a Major Disaster Declaration; Docket ID FEMA-2022-0001; Internal Agency Docket No. FEMA-4494-DR.

• Notice; Guam; Amendment No. 10 to Notice of a Major Disaster Declaration; Docket ID FEMA-2022-0001; Internal Agency Docket No. FEMA-4495-DR.

• Notice; Massachusetts; Amendment No. 7 to Notice of a Major Disaster Declaration; Docket ID FEMA-2022-0001; Internal Agency Docket No. FEMA-4496-DR.

• Notice; Kentucky; Amendment No. 7 to Notice of a Major Disaster Declaration; Docket ID FEMA-2022-0001; Internal Agency Docket No. FEMA-4497-DR.

• Notice; Colorado; Amendment No. 10 to Notice of a Major Disaster Declaration; Docket ID FEMA-2022-0001; Internal Agency Docket No. FEMA-4498-DR.

• Notice; Oregon; Amendment No. 9 to Notice of a Major Disaster Declaration; Docket ID FEMA-2022-0001; Internal Agency Docket No. FEMA-4499-DR.

• Notice; Connecticut; Amendment No. 8 to Notice of a Major Disaster Declaration; Docket ID FEMA-2022-0001; Internal Agency Docket No. FEMA-4500-DR.

• Notice; Georgia; Amendment No. 7 to Notice of a Major Disaster Declaration; Docket ID FEMA-2022-0001; Internal Agency Docket No. FEMA-4501-DR.

• Notice; District of Columbia; Amendment No. 9 to Notice of a Major Disaster Declaration; Docket ID FEMA-2022-0001; Internal Agency Docket No. FEMA-4502-DR.

• Notice; Alabama; Amendment No. 7 to Notice of a Major Disaster Declaration; Docket ID FEMA-2022-0001; Internal Agency Docket No. FEMA-4503-DR.

• Notice; Kansas; Amendment No. 8 to Notice of a Major Disaster Declaration; Docket ID FEMA-2022-0001; Internal Agency Docket No. FEMA-4504-DR.

• Notice; Rhode Island; Amendment No. 8 to Notice of a Major Disaster Declaration; Docket ID FEMA-2022-0001; Internal Agency Docket No. FEMA-4505-DR.

• Notice; Pennsylvania; Amendment No. 9 to Notice of a Major Disaster Declaration; Docket ID FEMA-2022-0001; Internal Agency Docket No. FEMA-4506-DR.

• Notice; Ohio; Amendment No. 9 to Notice of a Major Disaster Declaration; Docket ID FEMA-2022-0001; Internal Agency Docket No. FEMA-4507-DR.

• Notice; Montana; Amendment No. 10 to Notice of a Major Disaster Declaration; Docket ID FEMA-2022-0001; Internal Agency Docket No. FEMA-4508-DR.

• Notice; North Dakota; Amendment No. 10 to Notice of a Major Disaster Declaration; Docket ID FEMA-2022-0001; Internal Agency Docket No. FEMA-4509-DR.

• Notice; Hawaii; Amendment No. 9 to Notice of a Major Disaster Declaration; Docket ID FEMA-2022-0001; Internal Agency Docket No. FEMA-4510-DR.

• Notice; Commonwealth of the Northern Mariana Islands; Amendment No. 10 to Notice of a Major Disaster Declaration; Docket ID FEMA-2022-0001; Internal Agency Docket No. FEMA-4511-DR.

• Notice; Virginia; Amendment No. 9 to Notice of a Major Disaster Declaration; Docket ID FEMA-2022-0001; Internal Agency Docket No. FEMA-4512-DR.

• Notice; Virgin Islands; Amendment No. 12 to Notice of a Major Disaster Declaration; Docket ID FEMA-2022-0001; Internal Agency Docket No. FEMA-4513-DR.

• Notice; Tennessee; Amendment No. 7 to Notice of a Major Disaster Declaration; Docket ID FEMA-2022-0001; Internal Agency Docket No. FEMA-4514-DR.

• Notice; Indiana; Amendment No. 9 to Notice of a Major Disaster Declaration; Docket ID FEMA-2022-0001; Internal Agency Docket No. FEMA-4515-DR.

• Notice; New Hampshire; Amendment No. 8 to Notice of a Major Disaster Declaration; Docket ID FEMA-2022-0001; Internal Agency Docket No. FEMA-4516-DR.

• Notice; West Virginia; Amendment No. 9 to Notice of a Major Disaster Declaration; Docket ID FEMA-2022-0001; Internal Agency Docket No. FEMA-4517-DR.

• Notice; Arkansas; Amendment No. 7 to Notice of a Major Disaster Declaration; Docket ID FEMA-2022-0001; Internal Agency Docket No. FEMA-4518-DR.

• Notice; Oregon; Amendment No. 3 to Notice of a Major Disaster Declaration; Docket ID FEMA-2022-0001; Internal Agency Docket No. FEMA-4519-DR.

• Notice; Wisconsin; Amendment No. 9 to Notice of a Major Disaster Declaration; Docket ID FEMA-2022-0001; Internal Agency Docket No. FEMA-4520-DR.

• Notice; Nebraska; Amendment No. 8 to Notice of a Major Disaster Declaration; Docket ID FEMA-2022-0001; Internal Agency Docket No. FEMA-4521-DR.

• Notice; Maine; Amendment No. 8 to Notice of a Major Disaster Declaration; Docket ID FEMA-2022-0001; Internal Agency Docket No. FEMA-4522-DR.

• Notice; Nevada; Amendment No. 9 to Notice of a Major Disaster Declaration; Docket ID FEMA-2022-0001; Internal Agency Docket No. FEMA-4523-DR.

• Notice; Arizona; Amendment No. 9 to Notice of a Major Disaster Declaration; Docket ID FEMA-2022-0001; Internal Agency Docket No. FEMA-4524-DR.

• Notice; Utah; Amendment No. 10 to Notice of a Major Disaster Declaration; Docket ID FEMA-2022-0001; Internal Agency Docket No. FEMA-4525-DR.

• Notice; Delaware; Amendment No. 9 to Notice of a Major Disaster Declaration; Docket ID FEMA-2022-0001; Internal Agency Docket No. FEMA-4526-DR.

• Notice; South Dakota; Amendment No. 10 to Notice of a Major Disaster Declaration; Docket ID FEMA-2022-0001; Internal Agency Docket No. FEMA-4527-DR.

• Notice; Mississippi; Amendment No. 7 to Notice of a Major Disaster Declaration; Docket ID FEMA-2022-0001; Internal Agency Docket No. FEMA-4528-DR.

• Notice; New Mexico; Amendment No. 7 to Notice of a Major Disaster Declaration; Docket ID FEMA-2022-0001; Internal Agency Docket No. FEMA-4529-DR.

• Notice; Oklahoma; Amendment No. 7 to Notice of a Major Disaster Declaration; Docket ID FEMA-2022-0001; Internal Agency Docket No. FEMA-4530-DR.

• Notice; Minnesota; Amendment No. 9 to Notice of a Major Disaster Declaration; Docket ID FEMA-2022-0001; Internal Agency Docket No. FEMA-4531-DR.

• Notice; Vermont; Amendment No. 8 to Notice of a Major Disaster Declaration; Docket ID FEMA-2022-0001; Internal Agency Docket No. FEMA-4532-DR.

• Notice; Alaska; Amendment No. 9 to Notice of a Major Disaster Declaration; Docket ID FEMA-2022-0001; Internal Agency Docket No. FEMA-4533-DR.

• Notice; Idaho; Amendment No. 9 to Notice of a Major Disaster Declaration; Docket ID FEMA-2022-0001; Internal Agency Docket No. FEMA-4534-DR.

• Notice; Wyoming; Amendment No. 10 to Notice of a Major Disaster Declaration; Docket ID FEMA-2022-0001; Internal Agency Docket No. FEMA-4535-DR.

• Notice; Mississippi; Amendment No. 5 to Notice of a Major Disaster Declaration; Docket ID FEMA-2022-0001; Internal Agency Docket No. FEMA-4536-DR.

• Notice; American Samoa; Amendment No. 8 to Notice of a Major Disaster Declaration; Docket ID FEMA-2022-0001; Internal Agency Docket No. FEMA-4537-DR.

• Notice; Mississippi; Amendment No. 5 to Notice of a Major Disaster Declaration; Docket ID FEMA-2022-0001; Internal Agency Docket No. FEMA-4538-DR.

• Notice; Washington; Amendment No. 2 to Notice of a Major Disaster Declaration; Docket ID FEMA-2022-0001; Internal Agency Docket No. FEMA-4539-DR.

• Notice; Kentucky; Amendment No. 2 to Notice of a Major Disaster Declaration; Docket ID FEMA-2022-0001; Internal Agency Docket No. FEMA-4540-DR.

• Notice; Tennessee; Amendment No. 2 to Notice of a Major Disaster Declaration; Docket ID FEMA-2022-0001; Internal Agency Docket No. FEMA-4541-DR.

• Notice; South Carolina; Amendment No. 2 to Notice of a Major Disaster Declaration; Docket ID FEMA-2022-0001; Internal Agency Docket No. FEMA-4542-DR.

• Notice; North Carolina; Amendment No. 3 to Notice of a Major Disaster Declaration; Docket ID FEMA-2022-0001; Internal Agency Docket No. FEMA-4543-DR.

• Notice; Arkansas; Amendment No. 1 to Notice of a Major Disaster Declaration; Docket ID FEMA-2022-0001; Internal Agency Docket No. FEMA-4544-DR.

• Notice; Seminole Tribe of Florida; Amendment No. 5 to Notice of a Major Disaster Declaration; Docket ID FEMA-2022-0001; Internal Agency Docket No. FEMA-4545-DR.

• Notice; Alabama; Amendment No. 2 to Notice of a Major Disaster Declaration; Docket ID FEMA-2022-0001; Internal Agency Docket No. FEMA-4546-DR.

• Notice; Michigan; Amendment No. 1 to Notice of a Major Disaster Declaration; Docket ID FEMA-2022-0001; Internal Agency Docket No. FEMA-4547-DR.

• Notice; Utah; Amendment No. 2 to Notice of a Major Disaster Declaration; Docket ID FEMA-2022-0001; Internal Agency Docket No. FEMA-4548-DR.

• Notice; Hawaii; Amendment No. 1 to Notice of a Major Disaster Declaration; Docket ID FEMA-2022-0001; Internal Agency Docket No. FEMA-4549-DR.

• Notice; Tennessee; Amendment No. 1 to Notice of a Major Disaster Declaration; Docket ID FEMA-2022-0001; Internal Agency Docket No. FEMA-4550-DR.

• Notice; Mississippi; Amendment No. 2 to Notice of a Major Disaster Declaration; Docket ID FEMA-2022-0001; Internal Agency Docket No. FEMA-4551-DR.

• Notice; Missouri; Amendment No. 1 to Notice of a Major Disaster Declaration; Docket ID FEMA-2022-0001; Internal Agency Docket No. FEMA-4552-DR.

• Notice; North Dakota; Amendment No. 3 to Notice of a Major Disaster Declaration; Docket ID FEMA-2022-0001; Internal Agency Docket No. FEMA-4553-DR.

• Notice; Alabama; Amendment No. 1 to Notice of a Major Disaster Declaration; Docket ID FEMA-2022-0001; Internal Agency Docket No. FEMA-4554-DR.

• Notice; Alabama; Amendment No. 1 to Notice of a Major Disaster Declaration; Docket ID FEMA-2022-0001; Internal Agency Docket No. FEMA-4555-DR.

• Notice; Arkansas; Amendment No. 2 to Notice of a Major Disaster Declaration; Docket ID FEMA-2022-0001; Internal Agency Docket No. FEMA-4556-DR.

• Notice; Iowa; Amendment No. 6 to Notice of a Major Disaster Declaration; Docket ID FEMA-2022-0001; Internal Agency Docket No. FEMA-4557-DR.

• Notice; California; Amendment No. 12 to Notice of a Major Disaster Declaration; Docket ID FEMA-2022-0001; Internal Agency Docket No. FEMA-4558-DR.

• Notice; Louisiana; Amendment No. 18 to Notice of a Major Disaster Declaration; Docket ID FEMA-2022-0001; Internal Agency Docket No. FEMA-4559-DR.

• Notice; Puerto Rico; Amendment No. 1 to Notice of a Major Disaster Declaration; Docket ID FEMA-2022-0001; Internal Agency Docket No. FEMA-4560-DR.

• Notice; Sac & Fox Tribe of the Mississippi in Iowa; Amendment No. 2 to Notice of a Major Disaster Declaration; Docket ID FEMA-2022-0001; Internal Agency Docket No. FEMA-4561-DR.

• Notice; Oregon; Amendment No. 8 to Notice of a Major Disaster Declaration; Docket ID FEMA-2022-0001; Internal Agency Docket No. FEMA-4562-DR.

• Notice; Alabama; Amendment No. 7 to Notice of a Major Disaster Declaration; Docket ID FEMA-2022-0001; Internal Agency Docket No. FEMA-4563-DR.

• Notice; Florida; Amendment No. 6 to Notice of a Major Disaster Declaration; Docket ID FEMA-2022-0001; Internal Agency Docket No. FEMA-4564-DR.

• Notice; North Dakota; Amendment No. 1 to Notice of a Major Disaster Declaration; Docket ID FEMA-2022-0001; Internal Agency Docket No. FEMA-4565-DR.

• Notice; Delaware; Amendment No. 3 to Notice of a Major Disaster Declaration; Docket ID FEMA-2022-0001; Internal Agency Docket No. FEMA-4566-DR.

• Notice; New York; Amendment No. 3 to Notice of a Major Disaster Declaration; Docket ID FEMA-2022-0001; Internal Agency Docket No. FEMA-4567-DR.

• Notice; North Carolina; Amendment No. 3 to Notice of a Major Disaster Declaration; Docket ID FEMA-2022-0001; Internal Agency Docket No. FEMA-4568-DR.

• Notice; California; Amendment No. 5 to Notice of a Major Disaster Declaration; Docket ID FEMA-2022-0001; Internal Agency Docket No. FEMA-4569-DR.

• Notice; Louisiana; Amendment No. 4 to Notice of a Major Disaster Declaration; Docket ID FEMA-2022-0001; Internal Agency Docket No. FEMA-4570-DR.

• Notice; Puerto Rico; Amendment No. 1 to Notice of a Major Disaster Declaration; Docket ID FEMA-2022-0001; Internal Agency Docket No. FEMA-4571-DR.

• Notice; Texas; Amendment No. 1 to Notice of a Major Disaster Declaration; Docket ID FEMA-2022-0001; Internal Agency Docket No. FEMA-4572-DR.

• Notice; Alabama; Amendment No. 4 to Notice of a Major Disaster Declaration; Docket ID FEMA-2022-0001; Internal Agency Docket No. FEMA-4573-DR.

• Notice; New Jersey; Amendment No. 2 to Notice of a Major Disaster Declaration; Docket ID FEMA-2022-0001; Internal Agency Docket No. FEMA-4574-DR.

• Notice; Oklahoma; Amendment No. 2 to Notice of a Major Disaster Declaration; Docket ID FEMA-2022-0001; Internal Agency Docket No. FEMA-4575-DR.

• Notice; Mississippi; Amendment No. 1 to Notice of a Major Disaster Declaration; Docket ID FEMA-2022-0001; Internal Agency Docket No. FEMA-4576-DR.

• Notice; Louisiana; Amendment No. 2 to Notice of a Major Disaster Declaration; Docket ID FEMA-2022-0001; Internal Agency Docket No. FEMA-4577-DR.

• Notice; Utah; Amendment No. 1 to Notice of a Major Disaster Declaration; Docket ID FEMA-2022-0001; Internal Agency Docket No. FEMA-4578-DR.

• Notice; Georgia; Amendment No. 1 to Notice of a Major Disaster Declaration; Docket ID FEMA-2022-0001; Internal Agency Docket No. FEMA-4579-DR.

• Notice; Connecticut; Amendment No. 1 to Notice of a Major Disaster Declaration; Docket ID FEMA-2022-0001; Internal Agency Docket No. FEMA-4580-DR.

• Notice; Colorado; Amendment No. 2 to Notice of a Major Disaster Declaration; Docket ID FEMA-2022-0001; Internal Agency Docket No. FEMA-4581-DR.

• Notice; Navajo Nation; Amendment No. 7 to Notice of a Major Disaster Declaration; Docket ID FEMA-2022-0001; Internal Agency Docket No. FEMA-4582-DR.

• Notice; Maryland; Amendment No. 2 to Notice of a Major Disaster Declaration; Docket ID FEMA-2022-0001; Internal Agency Docket No. FEMA-4583-DR.

• Notice; Washington; Amendment No. 3 to Notice of a Major Disaster Declaration; Docket ID FEMA-2022-0001; Internal Agency Docket No. FEMA-4584-DR.

• Notice; Alaska; Amendment No. 3 to Notice of a Major Disaster Declaration; Docket ID FEMA-2022-0001; Internal Agency Docket No. FEMA-4585-DR.

• Notice; Texas; Amendment No. 7 to Notice of a Major Disaster Declaration; Docket ID FEMA-2022-0001; Internal Agency Docket No. FEMA-4586-DR.

• Notice; Oklahoma; Amendment No. 3 to Notice of a Major Disaster Declaration; Docket ID FEMA-2022-0001; Internal Agency Docket No. FEMA-4587-DR.

• Notice; North Carolina; Amendment No. 2 to Notice of a Major Disaster Declaration; Docket ID FEMA-2022-0001; Internal Agency Docket No. FEMA-4588-DR.

• Notice; Idaho; Amendment No. 2 to Notice of a Major Disaster Declaration; Docket ID FEMA-2022-0001; Internal Agency Docket No. FEMA-4589-DR.

• Notice; Louisiana; Amendment No. 3 to Notice of a Major Disaster Declaration; Docket ID FEMA-2022-0001; Internal Agency Docket No. FEMA-4590-DR.

• Notice; Poarch Band of Creek Indians; Amendment No. 5 to Notice of a Major Disaster Declaration; Docket ID FEMA-2022-0001; Internal Agency Docket No. FEMA-4591-DR.

• Notice; Kentucky; Amendment No. 2 to Notice of a Major Disaster Declaration; Docket ID FEMA-2022-0001; Internal Agency Docket No. FEMA-4592-DR.

• Notice; Washington; Amendment No. 3 to Notice of a Major Disaster Declaration; Docket ID FEMA-2022-0001; Internal Agency Docket No. FEMA-4593-DR.

• Notice; Tennessee; Amendment No. 1 to Notice of a Major Disaster Declaration; Docket ID FEMA-2022-0001; Internal Agency Docket No. FEMA-4594-DR.

• Notice; Kentucky; Amendment No. 7 to Notice of a Major Disaster Declaration; Docket ID FEMA-2022-0001; Internal Agency Docket No. FEMA-4595-DR.

• Notice; Alabama; Amendment No. 3 to Notice of a Major Disaster Declaration; Docket ID FEMA-2022-0001; Internal Agency Docket No. FEMA-4596-DR.

• Notice; New Jersey; Amendment No. 1 to Notice of a Major Disaster Declaration; Docket ID FEMA-2022-0001; Internal Agency Docket No. FEMA-4597-DR.

• Notice; Mississippi; Amendment No. 3 to Notice of a Major Disaster Declaration; Docket ID FEMA-2022-0001; Internal Agency Docket No. FEMA-4598-DR.

• Notice; Oregon; Amendment No. 2 to Notice of a Major Disaster Declaration; Docket ID FEMA-2022-0001; Internal Agency Docket No. FEMA-4599-DR.

• Notice; Georgia; Amendment No. 2 to Notice of a Major Disaster Declaration; Docket ID FEMA-2022-0001; Internal Agency Docket No. FEMA-4600-DR.

• Notice; Tennessee; Amendment No. 2 to Notice of a Major Disaster Declaration; Docket ID FEMA-2022-0001; Internal Agency Docket No. FEMA-4601-DR.

• Notice; Virginia; Amendment No. 3 to Notice of a Major Disaster Declaration; Docket ID FEMA-2022-0001; Internal Agency Docket No. FEMA-4602-DR.

• Notice; West Virginia; Amendment No. 1 to Notice of a Major Disaster Declaration; Docket ID FEMA-2022-0001; Internal Agency Docket No. FEMA-4603-DR.

• Notice; Hawaii; Amendment No. 1 to Notice of a Major Disaster Declaration; Docket ID FEMA-2022-0001; Internal Agency Docket No. FEMA-4604-DR.

• Notice; West Virginia; Amendment No. 1 to Notice of a Major Disaster Declaration; Docket ID FEMA-2022-0001; Internal Agency Docket No. FEMA-4605-DR.

• Notice; Louisiana; Amendment No. 2 to Notice of a Major Disaster Declaration; Docket ID FEMA-2022-0001; Internal Agency Docket No. FEMA-4606-DR.

• Notice; Michigan; Amendment No. 3 to Notice of a Major Disaster Declaration; Docket ID FEMA-2022-0001; Internal Agency Docket No. FEMA-4607-DR.

• Notice; Montana; Amendment No. 2 to Notice of a Major Disaster Declaration; Docket ID FEMA-2022-0001; Internal Agency Docket No. FEMA-4608-DR.

• Notice; Tennessee; Amendment No. 4 to Notice of a Major Disaster Declaration; Docket ID FEMA-2022-0001; Internal Agency Docket No. FEMA-4609-DR.

• Notice; California; Amendment No. 4 to Notice of a Major Disaster Declaration; Docket ID FEMA-2022-0001; Internal Agency Docket No. FEMA-4610-DR.

• Notice; Louisiana; Amendment No. 6 to Notice of a Major Disaster Declaration; Docket ID FEMA-2022-0001; Internal Agency Docket No. FEMA-4611-DR.

• Notice; Missouri; Amendment No. 1 to Notice of a Major Disaster Declaration; Docket ID FEMA-2022-0001; Internal Agency Docket No. FEMA-4612-DR.

• Notice; North Dakota; Amendment No. 2 to Notice of a Major Disaster Declaration; Docket ID FEMA-2022-0001; Internal Agency Docket No. FEMA-4613-DR.

• Notice; New Jersey; Amendment No. 6 to Notice of a Major Disaster Declaration; Docket ID FEMA-2022-0001; Internal Agency Docket No. FEMA-4614-DR.

• Notice; New York; Amendment No. 6 to Notice of a Major Disaster Declaration; Docket ID FEMA-2022-0001; Internal Agency Docket No. FEMA-4615-DR.

• Notice; Nebraska; Amendment No. 1 to Notice of a Major Disaster Declaration; Docket ID FEMA-2022-0001; Internal Agency Docket No. FEMA-4616-DR.

• Notice; North Carolina; Amendment No. 3 to Notice of a Major Disaster Declaration; Docket ID FEMA-2022-0001; Internal Agency Docket No. FEMA-4617-DR.

• Notice; Pennsylvania; Amendment No. 5 to Notice of a Major Disaster Declaration; Docket ID FEMA-2022-0001; Internal Agency Docket No. FEMA-4618-DR.

• Notice; California; Amendment No. 4 to Notice of a Major Disaster Declaration; Docket ID FEMA-2022-0001; Internal Agency Docket No. FEMA-4619-DR.

• Notice; Arizona; Amendment No. 1 to Notice of a Major Disaster Declaration; Docket ID FEMA-2022-0001; Internal Agency Docket No. FEMA-4620-DR.

• Notice; Vermont; Amendment No. 1 to Notice of a Major Disaster Declaration; Docket ID FEMA-2022-0001; Internal Agency Docket No. FEMA-4621-DR.

• Notice; New Hampshire; Amendment No. 2 to Notice of a Major Disaster Declaration; Docket ID FEMA-2022-0001; Internal Agency Docket No. FEMA-4622-DR.

• Notice; Montana; Amendment No. 1 to Notice of a Major Disaster Declaration; Docket ID FEMA-2022-0001; Internal Agency Docket No. FEMA-4623-DR.

• Notice; New Hampshire; Amendment No. 2 to Notice of a Major Disaster Declaration; Docket ID FEMA-2022-0001; Internal Agency Docket No. FEMA-4624-DR.

• Notice; New York; Amendment No. 2 to Notice of a Major Disaster Declaration; Docket ID FEMA-2022-0001; Internal Agency Docket No. FEMA-4625-DR.

• Notice; Mississippi; Amendment No. 3 to Notice of a Major Disaster Declaration; Docket ID FEMA-2022-0001; Internal Agency Docket No. FEMA-4626-DR.

• Notice; Delaware; Amendment No. 1 to Notice of a Major Disaster Declaration; Docket ID FEMA-2022-0001; Internal Agency Docket No. FEMA-4627-DR.

• Notice; Virginia; Amendment No. 3 to Notice of a Major Disaster Declaration; Docket ID FEMA-2022-0001; Internal Agency Docket No. FEMA-4628-DR.

• Notice; Connecticut; Amendment No. 3 to Notice of a Major Disaster Declaration; Docket ID FEMA-2022-0001; Internal Agency Docket No. FEMA-4629-DR.

• Notice; Kentucky; Amendment No. 9 to Notice of a Major Disaster Declaration; Docket ID FEMA-2022-0001; Internal Agency Docket No. FEMA-4630-DR.

• Notice; Confederated Tribes of the Colville Reservation; Amendment No. 1 to Notice of a Major Disaster Declaration; Docket ID FEMA-2022-0001; Internal Agency Docket No. FEMA-4631-DR.

• Notice; Alabama; Amendment No. 2 to Notice of a Major Disaster Declaration; Docket ID FEMA-2022-0001; Internal Agency Docket No. FEMA-4632-DR.

• Notice; Arkansas; Amendment No. 1 to Notice of a Major Disaster Declaration; Docket ID FEMA-2022-0001; Internal Agency Docket No. FEMA-4633-DR.

• Notice; Colorado; Amendment No. 3 to Notice of a Major Disaster Declaration; Docket ID FEMA-2022-0001; Internal Agency Docket No. FEMA-4634-DR.

• Notice; Washington; Amendment No. 4 to Notice of a Major Disaster Declaration; Docket ID FEMA-2022-0001; Internal Agency Docket No. FEMA-4635-DR.

• Notice; Missouri; Amendment No. 2 to Notice of a Major Disaster Declaration; Docket ID FEMA-2022-0001; Internal Agency Docket No. FEMA-4636-DR.

• Notice; Tennessee; Amendment No. 2 to Notice of a Major Disaster Declaration; Docket ID FEMA-2022-0001; Internal Agency Docket No. FEMA-4637-DR.

• Notice; Alaska; Amendment No. 1 to Notice of a Major Disaster Declaration; Docket ID FEMA-2022-0001; Internal Agency Docket No. FEMA-4638-DR.

• Notice; Hawaii; Amendment No. 1 to Notice of a Major Disaster Declaration; Docket ID FEMA-2022-0001; Internal Agency Docket No. FEMA-4639-DR.

• Notice; Kansas; Amendment No. 2 to Notice of a Major Disaster Declaration; Docket ID FEMA-2022-0001; Internal Agency Docket No. FEMA-4640-DR.

• Notice; Nebraska; Amendment No. 1 to Notice of a Major Disaster Declaration; Docket ID FEMA-2022-0001; Internal Agency Docket No. FEMA-4641-DR.

• Notice; Iowa; Amendment No. 1 to Notice of a Major Disaster Declaration; Docket ID FEMA-2022-0001; Internal Agency Docket No. FEMA-4642-DR.

• Notice; Kentucky; Amendment No. 2 to Notice of a Major Disaster Declaration; Docket ID FEMA-2022-0001; Internal Agency Docket No. FEMA-4643-DR.

• Notice; Maine; Amendment No. 1 to Notice of a Major Disaster Declaration; Docket ID FEMA-2022-0001; Internal Agency Docket No. FEMA-4647-DR.

• Notice; Alaska; Amendment No. 1 to Notice of a Major Disaster Declaration; Docket ID FEMA-2022-0001; Internal Agency Docket No. FEMA-4648-DR.

The following Catalog of Federal Domestic Assistance Numbers (CFDA) are to be used for reporting and drawing funds: 97.030, Community Disaster Loans; 97.031, Cora Brown Fund; 97.032, Crisis Counseling; 97.033, Disaster Legal Services; 97.034, Disaster Unemployment Assistance (DUA); 97.046, Fire Management Assistance Grant; 97.048, Disaster Housing Assistance to Individuals and Households In Presidentially Declared Disaster Areas; 97.049, Presidentially Declared Disaster Assistance—Disaster Housing Operations for Individuals and Households; 97.050 Presidentially Declared Disaster Assistance to Individuals and Households—Other Needs; 97.036, Disaster Grants—Public Assistance (Presidentially Declared Disasters); 97.039, Hazard Mitigation Grant.

Deanne Criswell,
Administrator,Federal Emergency Management Agency.

[FR Doc. 2022-09299 Filed 5-3-22; 8:45 am]

BILLING CODE 9111-23-P